DEPARTMENT OF THE INTERIOR

Bureau of Land Management

[AZ-020-04-1430-ES; AZA-23804, AZA-32208]

Notice of Realty Recreation and Public Purposes (R&PP) Act Classification: Arizona

AGENCY: Bureau of Land Management, Interior.

ACTION: Notice.

SUMMARY: The following public lands, are located in Yavapai County, Arizona, and found suitable for lease or conveyance under the provisions of the Recreation and Public Purposes Act, as amended (43 U.S.C. 869, et seq.). The lands are not needed for federal purposes. Lease or conveyance is consistent with current Bureau of Land Management (BLM) land use planning and would be in the public interest.

The following described lands, located in the town of Black Canyon City, Yavapai County, Arizona, and containing approximately 93.64 acres, have been found suitable for lease or conveyance to the Yavapai County Board of Supervisors for park expansion, and to the Black Canyon City Fire Department for a community fire station:

Gila and Salt River Meridian, Arizona

T. 8 N., R. 2 E.,

Section 9, Lot 6;

Section 10, W½NW¼NE¼NW¼, W½SW¼NE¼NW¼, E½NE¼NW¼NW¼, E½W½NE¼NW¼NW¼, E½SE¼NW¼NW¼, E½W½SE¼NW¼NW¼, SW¼NW¼

The lease or conveyance would be subject to the following terms, conditions, and reservations:

1. Provisions of the Recreation and Public Purposes Act and all applicable regulations of the Secretary of the Interior.

2. All minerals shall be reserved to the United States, together with the right to prospect for, mine, and remove the minerals.

3. A right-of-way for ditches and canals constructed by the authority of the United States.

4. Those rights for a 1,266-foot road easement granted under RS-2477 to the Yavapai County Engineer by right-of-way number AZA-00543.

5. Those rights for a transmission line granted to the Arizona Public Service Company by right-of-way number AZA-06014.

6. Those rights for a telephone/telegraph line granted to the Qwest Corporation by right-of-way number AZA-06273.

FOR FURTHER INFORMATION CONTACT: Jo Ann Goodlow, BLM Phoenix Field Office, 21605 North 7th Avenue, Phoenix, Arizona 85027, (623) 580-5548.

SUPPLEMENTARY INFORMATION: Upon publication of this notice in the Federal Register, the lands will be segregated from all other forms of appropriation under the public land laws, including the general mining laws, except for lease or conveyance under the Recreation and Public Purposes Act. For a period of 45 days from the date of publication of this Notice, interested parties may submit comments regarding the proposed lease, conveyance, or classification of the lands to the Field Manager, Phoenix Field Office, 21605 North 7th Avenue, Phoenix, Arizona 85027.

Classification Comments: Interested parties may submit comments involving the suitability of the land for the park expansion for Yavapai County Board of Supervisors, and the community fire station for the Black Canyon City Fire Department. Comments on the classification are restricted to whether the land is physically suited for the proposals, whether the uses will maximize the future use or uses of the land, whether the uses are consistent with local planning and zoning, or if the uses are consistent with state and federal programs.

Application Comments: Interested parties may submit comments regarding the specific uses proposed in the applications and plans of development, whether the BLM followed proper administrative procedures in reaching the decision, or any other factor not directly related to the suitability of the land for proposed uses. Any adverse comments will be reviewed by the State Director. In the absence of any adverse comments, the classification will become effective 60 days from the date of publication in the Federal Register.

Dated: May 12, 2004.
Teresa A. Raml,
Field Manager.

[FR Doc. 04-13910 Filed 6-18-04; 8:45 am]

BILLING CODE 4310-32-P